DEPARTMENT OF THE INTERIOR

Bureau of Land Management

[LLNVL00000.L51100000.GN0000.LVEMCF050000; 09-08807; TAS: 14X5017]

Final Environmental Impact Statement for the Bald Mountain Mine North Operations Area Project in White Pine County, NV

AGENCY: Bureau of Land Management, Interior.

ACTION: Notice of availability.

SUMMARY: In accordance with section 102(2)(c) of the National Environmental Policy Act of 1969 (NEPA), the Bureau of Land Management (BLM) Nevada Ely District has prepared a Final Environmental Impact Statement (EIS) for a proposed expansion of the existing plans of operation for Barrick Gold U.S. Inc.'s Bald Mountain Mine and Mooney Basin Mine. The two existing mines would be combined into one new expanded operation which would be called the North Operations Area. The Final EIS analyzes the environmental effects of the Proposed Action, two action alternatives, and the No Action Alternative.

DATES: The BLM will not issue a final decision on the proposal for a minimum of 30 days following the Environmental Protection Agency's publication of a Notice of Availability of the Final EIS in the Federal Register.

ADDRESSES: Print and compact disk copies of the North Operations Area Final EIS are available in the Ely District Office at 702 North Industrial Way, HC33 Box 33500, Ely, NV 89301. The document is available at: http://www.blm.gov/nv/st/en/fo/ely_field_office.html.

FOR FURTHER INFORMATION CONTACT: Lynn Bjorklund, phone: 775 289-1893, e-mail: Lynn_Bjorklund@blm.gov.

SUPPLEMENTARY INFORMATION: Barrick Gold U.S. Inc. has submitted a proposal to expand and combine its existing Bald Mountain and Mooney Basin mines into one project area to be administered under the North Operations Area Plan of Operation. The mines are located approximately 65 miles northwest of Ely, Nevada. This proposed expansion is entirely on unpatented mining claims on BLM-administered public land. The proposed North Operations Area would include 4,160 acres of previously permitted disturbance and 3,920 acres of new disturbance, for a total of 8,080 acres. The project would consist of extending existing open pits, expanding existing rock disposal areas and heap leach facilities, construction of a truck shop, additional exploration, concurrent reclamation, and continuing operation of existing facilities. The projected life of the existing mine operation would increase by approximately ten years under this proposed project.

The Draft EIS analyzed the Proposed Action and two action alternatives. The alternatives were a partial pit backfill and a leach pad alternative whereby the expansion of the Mooney Basin leach pad would be reduced by processing the ore at the existing Bald Mountain leach pad. Both the BLM and the Nevada Department of Wildlife have designated the partial pit backfill as the Preferred Alternative.

The Draft EIS was released for public review on December 19, 2008. Public meetings were held in Nevada during a 45-day public comment period in Ely, Elko, and Eureka, Jan. 6-8, 2009. A total of 17 comment letters were received throughout the comment period. All comments were analyzed and appropriate changes or clarifications were incorporated into the Final EIS. The BLM will prepare a Record of Decision for the proposed project no earlier than 30 days following the publication of the Notice of Availability by the Environmental Protection Agency of the Final EIS.

Authority: 43 CFR part 3809.

Jeffrey A. Weeks,
Associate District Manager.

[FR Doc. E9-27325 Filed 11-12-09; 8:45 am]

BILLING CODE 4310-HC-P